DEPARTMENT OF DEFENSE

Department of the Navy

Notice of Cancellation of the Notice of Intent To Prepare an Environmental Impact Statement for TRIDENT Support Facilities Explosives Handling Wharf, Naval Base Kitsap-Bangor, Silverdale, Kitsap County, WA

AGENCY: Department of the Navy, DoD.

ACTION: Notice.

SUMMARY: The Department of the Navy (DON) hereby cancels its notice of intent to prepare an Environmental Impact Statement for TRIDENT Support Facilities Explosives Handling Wharf, Naval Base Kitsap-Bangor, Silverdale, Kitsap County, WA, as published in the Federal Register, June 10, 2008 (73 FR 112).

The previously published notice is cancelled because the DON has determined that this MILCON project is not ready for consideration in the current budget cycle and therefore the project will not be funded. DON will perform a thorough Business Case Analysis on this project, a thorough review and validation of the project requirement and timeline, and will explore and identify other alternative solutions to this $780M MILCON project.

FOR FURTHER INFORMATION CONTACT: Mr. Jack Spiller, Public Affairs Officer, Department of the Navy, Strategic Systems Programs, 2521 South Clark Street, Suite 1000, Arlington, VA 22202-3930, telephone: 703-601-9009, e-mail at: nbkehweis@ssp.navy.mil.

Dated: June 25, 2008.
L.R. Almand,
Office of the Judge Advocate General, U.S. Navy, Alternate Federal Register Liaison Officer.

[FR Doc. E8-14810 Filed 6-27-08; 8:45 am]

BILLING CODE 3810-FF-P